NATIONAL FOUNDATION ON THE ARTS AND HUMANITIES

Proposed Collection, Submission for OMB Review, Generic Clearance to Collect Data to Evaluate IMLS Programs, Trends in IMLS Grants, and Customer Satisfaction

AGENCY: Institute of Museum and Library Services, NFAH.

ACTION: Notice.

SUMMARY: The Institute of Museum and Library Services announces the following information collection has been submitted to the Office of Management and Budget (OMB) for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed.

A copy of the proposed information collection request can be obtained by contacting the individual listed below in the addressee section of this notice.

DATES: Written comments must be submitted to the office listed in the contact section below on or before October 25, 2007.

OMB is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Dr. Mary Downs, Research Officer, Institute of Museum and Library Services, 1800 M Street, NW., 9th Floor, Washington, DC. Dr. Downs can be reached by telephone: 202-653-4682; fax: 202-653-8625; or e-mail: mdowns@imls.gov.

SUPPLEMENTARY INFORMATION: The Institute of Museum and Library Services is an independent Federal grant-making agency authorized by the Museum and Library Services Act, 20 U.S.C. 9101, et seq. Section 9108 of the Act supports IMLS's data collection and analysis role. The IMLS provides a variety of grant programs to assist the nation's museums and libraries in improving their operations and enhancing their services to the public. Museums and libraries of all sizes and types may receive support from IMLS programs.

This proposed generic clearance is essential to IMLS's ability to improve services, measure progress in achieving the goals articulated in the agency's strategic plan, understand trends in museum and library service, and in general be fully responsive to federal accountability requirements.

Abstract: This generic clearance will enable IMLS to collect evaluative and customer satisfaction data from applicants, grantees and participants in IMLS programs. IMLS intends to carry out the information collections in Fiscal Years 2008-2010 at a rate of nine (9) each year.

Current Actions: This notice proposes clearance of the Generic Clearance to Collect Data to Evaluate IMLS Programs, Trends in IMLS Grants, and Customer Satisfaction. The 60-day Notice for this proposed generic clearance was published in the Federal Register on June 14, 2007 (FR Vol. 72, no. 114, pgs. 32920-32921.) No comments were received.

OMB Number: n/a.

Agency Number: 3137.

Affected Public: Federal, state and local governments, public libraries, state library agencies, museums & archives, and related professional and service organizations.

Number of Respondents: 13,724.

Frequency: One time each for each survey.

Burden hours per respondent: 20 minutes; Total burden hours: 2,820.32.

FOR FURTHER INFORMATION CONTACT: Comments should be sent to the Office of Information and Regulatory Affairs, Attn.: OMB Desk Officer for Education, Office of Management and Budget, Room 10235, Washington, DC 20503 (202) 395-7316.

Dated: September 20, 2007.
Barbara G. Smith,
E-Projects Officer, Office of the Chief Information Officer.

[FR Doc. E7-18927 Filed 9-24-07; 8:45 am]

BILLING CODE 7036-01-P